DEPARTMENT OF ENERGY

Federal Energy Regulatory Commission

[Docket No. EC03-16-000, et al.]

Power Contract Finance, L.L.C., et al.; Electric Rate and Corporate Filings

November 13, 2002.

The following filings have been made with the Commission. The filings are listed in ascending order within each docket classification.

1. Power Contract Finance, L.L.C.

[Docket Nos. EC03-16-000 and ER02-1485-002]

Take notice that on November 7, 2002, Power Contract Finance, L.L.C. (PCF) (the Applicant), filed with the Federal Energy Regulatory Commission (the Commission) an application pursuant to section 203 of the Federal Power Act seeking authorization for the transfer of certain jurisdictional facilities that will result from the sale of all of the membership interests in PCF to Morgan Stanley Capital Group Inc. (MSCG). PCF, a limited liability company formed under the laws of Delaware, is a power marketer. PCF does not own any generating facilities. PCF also requests that the Commission accept the filing as a notice of change in status in its rate docket.

Comment Date: November 29, 2002.

2. Morgan Stanley Capital Group Inc.

[Docket Nos. EC03-17-000]

Take notice that on November 7, 2002, Morgan Stanley Capital Group Inc. (MSCG or the Applicant) filed with the Federal Energy Regulatory Commission (the Commission) an application pursuant to section 203 of the Federal Power Act seeking authorization to purchase all of the membership interests in Power Contract Finance, L.L.C. (PCF). MSCG and PCF are FERC-authorized power marketers.

Comment Date: November 29, 2002.

3. Central Illinois Generation, Inc.

[Docket No. ER02-1688-003]

Take notice that, on November 8, 2002, Central Illinois Generation, Inc. (CIGI) filed in compliance with the Commission's October 25, 2002, order in this proceeding. CIGI's compliance filing includes (1) a revised market-based rate tariff; (2) a revised Power Supply Agreement between CIGI and Central Illinois Light Company (CILCO); and (3) an Interconnection Agreement (IA) between CIGI and CILCO filed in accordance with Order No. 614.

Comment Date: November 29, 2002.

4. American Electric Power Service Corporation

[Docket No. ER03-166-000]

Take notice that on November 6, 2002, American Electric Power Service Corporation (AEPSC) tendered for filing pursuant to section 35.15 of the Federal Energy Regulatory Commission's (Commission) regulations, a notice of cancellation of service agreement no. 334 between Indiana Michigan Power Company and Duke Energy Vigo, LLC under American Electric Power Operating Companies' Open Access Transmission Tariff (OATT).

AEPSC requests an effective date of January 4, 2002 for the cancellation. AEPSC served copies of the filing upon Duke Energy Vigo, LLC c/o Duke Energy North America, LLC.

Comment Date: November 27, 2002.

5. The Empire District Electric Company

[Docket No. ER03-167-000]

Take notice that on November 6, 2002, The Empire District Electric Company filed a proposal to cancel parts of its Open Access Transmission Tariff and to substitute an Ancillary Services Form of Agreement. The Empire District Electric Company filed this proposal in order to accommodate the administration of the Open Access Transmission Tariff of the Resulting Company from the consolidation of the Midwest Independent Transmission System Operator, Inc. and the Southwest Power Pool. The proposed effective date for this filing is January 6, 2003.

Comment Date: November 27, 2002.

6. Morgan Stanley Capital Group Inc.

[Docket No.ER03-168-000]

Take notice that on November 7, 2002, Morgan Stanley Capital Group Inc. (MSCG) tendered for filing a revised Wholesale Market-Based Rate Schedule updating the format of the rate schedule and certain language. MSCG requests an effective date of November 15, 2002.

Comment Date: November 29, 2002.

7. Tampa Electric Company

[Docket No. ER03-169-000]

Take notice that on November 7, 2002, Tampa Electric Company (TEC) tendered for filing pursuant to section 205 of the Federal Power Act an executed Interconnection and Operating Agreement between TEC and Cargill Fertilizer, Inc. as a service agreement under TEC's open access transmission tariff.

Comment Date: November 29, 2002.

8. Entergy Services, Inc.

[Docket No. ER03-171-000]

Take notice that on November 7, 2002, Entergy Services, Inc., on behalf of Entergy Mississippi, Inc., tendered for filing a unilaterally executed Interconnection and Operating Agreement with South Mississippi Electric Power Association (SMEPA), a Generator Imbalance Agreement with SMEPA, and New Delivery Point Agreements.

Comment Date: November 29, 2002.

9. PJM Interconnection, L.L.C.

[Docket No. ER03-173-000]

Take notice that on November 8, 2002, PJM Interconnection, L.L.C. (PJM), submitted for filing a revised interconnection service agreement between PJM and Reliant Energy Services, Inc. (Reliant). The agreement is revised to remove and replace the specifications pages for two generating units that have been retired.

PJM requests a waiver of the Commission's 60-day notice requirement to permit a November 4, 2002, effective date for the revised agreement. Copies of this filing were served upon Reliant and the state regulatory commissions within the PJM region.

Comment Date: November 29, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-29416 Filed 11-19-02; 8:45 am]

BILLING CODE 6717-01-P